DEPARTMENT OF STATE

[Public Notice 4343]

Bureau of Educational and Cultural Affairs; Revision to Grant Start Date: English Language Fellow Program for Academic Year 2004-2005

SUMMARY: Pending the availability of funds, the grant period shall begin on/about October 1, 2003, as opposed to October 1, 2004, as previously announced.

Additional Information

All other program information and guidelines remain the same. The English Language Fellow Program was announced in the Federal Register, Volume 68, Number 54, on March 20, 2003. Interested U.S. organizations should contact Catherine Williamson at 202-619-5878 for additional information.

Dated: April 23, 2003.
C. Miller Crouch,
Principal Deputy Assistant Secretary, Bureau of Educational and Cultural Affairs, Department of State.

[FR Doc. 03-10554 Filed 4-28-03; 8:45 am]

BILLING CODE 4710-05-P